DEPARTMENT OF LABOR

Employment and Training Administration

20 CFR Part 655

RIN 1205-AB24

Labor Certification and Petition Process for Temporary Agricultural Employment of Nonimmigrant Workers in the United States (H-2A Workers); Modification of Fee Structure; Extension of Comment Period

AGENCY: Employment and Training Administration, Labor.

ACTION: Proposed rule; extension of comment period.

SUMMARY: This document extends the period for filing comments on the proposed rule that would require employers to submit fees for labor certification and the associated H-2A petition with a consolidated application form at the time of filing. The proposed rule also would modify the fee structure for H-2A labor certification applications. This action is once again being taken to permit additional comment from interested persons.

DATES: Interested persons are invited to submit written comments on or before December 17, 2001.

ADDRESSES: Submit written comments to the Assistant Secretary for Employment and Training, U.S. Department of Labor, 200 Constitution Avenue, NW., Room C-4318, Washington, DC 20210, Attention: Dale Ziegler, Chief, Division of Foreign Labor Certifications.

FOR FURTHER INFORMATION CONTACT: Charlene Giles; telephone 202-693-2950 (this is not a toll-free number).

SUPPLEMENTARY INFORMATION: In the Federal Register of July 13, 2000, (65 FR 43545) we published a notice requesting comments on a proposed rule to require employers to submit the fees for temporary foreign agricultural (H-2A) labor certification and the associated non-immigrant H-2A petition with a consolidated application form at the time of filing. The proposal also would modify the fee structure for H-2A labor certification applications. On August 17, 2000, the comment period was reopened and extended to September 18, 2000. 65 FR 50170. On September 27, 2001, the comment period was again reopened through October 29, 2001. 66 FR 49328. Because of comments received during the comment period and continuing interest in the proposal, it is desirable to extend the comment period for all interested persons. Therefore, the comment period for the proposed rule revising 20 CFR part 655, subpart B (Labor Certification Process for Temporary Agricultural Employment in the United States (H-2A Workers) is extended until December 17, 2001.

Signed at Washington, DC, this 19th day of October, 2001.
Emily Stover DeRocco,
Assistant Secretary for Employment and Training.

[FR Doc. 01-26867 Filed 10-23-01; 8:45 am]

BILLING CODE 4510-30-P